DEPARTMENT OF LABOR

Office of the Secretary

Submission for OMB Review; Comment Request

June 20, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 (this is not a toll-free number) or E-Mail: king.darrin@dol.gov.

Comments should be sent to Office of Information and Regulatory Affairs, Attn: OMB Desk Officer for the Employment Standards Administration (ESA), Office of Management and Budget, Room 10235, Washington, DC 20503 (202-395-7316/this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Employment Standards Agency.

Title: Equal Opportunity Survey.

OMB Number: 1215-0196.

Frequency: Annually.

Affected Public: Business or other for-profit and Not-for-profit institutions.

Number of Respondents: 10,000.

Annual Responses: 10,000.

Estimated Time Per respondent: 21 hours.

Total Burden Hours: 210,000.

Total Annualized capital/startup costs: $0.

Total annual costs (operating/maintaining systems or purchasing services): $30,000.

Description: 41 CFR 60-2.18 authorizes the Department to collect data through the use of the Equal Opportunity (EO) Survey. The EO Survey requires Government contractors to provide information on their personnel activities and the results of their affirmative efforts to employ and promote minorities and women. This information is used to select specifically identified contractors for compliance evaluations and technical assistance.

Ira L. Mills,
Departmental Clearance Officer.

[FR Doc. 03-16421 Filed 6-27-03; 8:45 am]

BILLING CODE 4510-CM-M